DEPARTMENT OF THE INTERIOR

Bureau of Land Management

[MT-060-1220DM-00]

Notice of Availability

AGENCY: Bureau of Land Management, Interior.

ACTION: Notice.

SUMMARY: The Bureau of Land Management (BLM) announces the availability of a Final Off-Highway Vehicle (OHV) Environmental Impact Statement (EIS) and Proposed Plan Amendment. The Final EIS describes the analysis completed on proposed management changes in off-highway vehicle area designations on public lands administered by the Bureau of Land Management and Forest Service, Northern Region, in Montana, North Dakota, and portions of South Dakota. The BLM and Forest Service are joint lead agencies responsible for preparation of the final EIS. The purpose and need are to address the impacts of OHV travel on open areas that are currently available to motorized wheeled cross-country travel. The preferred alternative would restrict motorized wheeled cross-country travel yearlong on approximately 6 million acres of public land administered by the BLM and 10 million acres of National Forest System lands. These lands would be designated limited or restricted yearlong for motorized wheeled cross-country travel.

DATES: The proposed plan amendment is subject to a BLM 30-day protest period commencing with the date of publication of the Environmental Protection Agency's notice of availability in the Federal Register.

ADDRESSES: Written protests must be sent to: Director, Bureau of Land Management, Attention: Ms Brenda Williams, Protests Coordinator, WO-210/LS-1075, Department of the Interior, Washington, D.C.

FOR FURTHER INFORMATION CONTACT: Jerry Majerus, 406-538-1924.

SUPPLEMENTARY INFORMATION: The Final EIS and Proposed Plan Amendment discloses the potential environmental consequences of managing motorized wheeled cross-country travel on public lands administered by the BLM and Forest Service, Northern Region, in Montana, North Dakota, and portions of South Dakota (excluding the Black Hills National Forest, Buffalo Gap Grasslands and the Fort Pierre Grasslands). A Draft OHV EIS and Plan Amendment was released for a 90-day public comment period in November 1999. Over 1,500 peopled attended 35 open houses that were held around Montana, North Dakota and South Dakota and 2,300 comment letters were received on the Draft OHV EIS and Plan Amendment.

Six alternatives, including a No Action Alternative, were analyzed in the Final OHV EIS and Proposed Plan Amendment. The No Action Alternative would maintain current management and areas currently open seasonally or yearlong to motorized wheeled cross-country travel would remain open. Alternatives 1, 2 and 5 would restrict motorized wheeled cross-country travel yearlong and the alternatives vary by exceptions allowed for cross-country travel. Alternative 3 would restrict motorized wheeled cross-country travel yearlong in North Dakota, most of Montana, and portions of South Dakota. Alternative 4 would limit motorized wheeled cross-country travel seasonally from September 1 to December 1 and February 16 to June 14. Alternative 5 is the preferred alternative.

Alternative 5, the preferred alternative, was developed in response to comments on the Draft OHV EIS and Plan Amendment from the public and other agencies. It restricts motorized wheeled cross-country travel yearlong throughout the analysis area to protect riparian areas, wetlands, crucial wildlife habitat, threatened or endangered species, soils and vegetation, aquatic resources, and to reduce user conflicts. Through subsequent site-specific planning, the BLM would designate roads and trails for motorized use. The following BLM resource management plans (Big Dry, Powder River, Billings, Headwaters, West HiLine, Judith-Valley-Phillips, North Dakota, and South Dakota) and the Dillon management framework plan would be amended to designate approximately 6 million acres limited yearlong for motorized wheeled cross-country travel under 43 CFR 8342.

The BLM's resource management planning process includes an opportunity for administrative review via a plan protest to the BLM's Director (43 CFR 1610.5-2). Any person who participated in the planning process and has an interest which is or may be adversely affected by the approval of an amendment to a resource management plan may protest such approval. Careful adherence to the following guidelines will assist in preparing a protest that will assure the greatest consideration to your point of view. Only those persons or organizations who participated in the planning process may protest. A protesting party may raise only those issues which were commented on during the planning process. New issues may be raised at any time but should be directed to the appropriate BLM field office for consideration in plan implementation, as potential plan amendments, or as otherwise appropriate. The protest period extends for 30 days. There is no provision for any extension of time. To be considered timely, your protest must be postmarked no later than the last day of the protest period. Also, although not a requirement, we suggest that you send your protest by certified mail, return receipt requested. In order to be considered complete, your protest must contain, at a minimum, the following information:

(1) The name, mailing address, telephone number and interest of the person filing the protest.

(2) A statement of the issue or issues being protested.

(3) A statement of the part or parts of the amendment being protested. To the extent possible, this should be done by reference to specific pages, paragraphs, sections, tables, maps, etc. included in the proposed amendment.

(4) A copy of all documents addressing the issue or issues submitted during the planning process by the protesting party or an indication of the discussion date of the issue(s) for the record.

(5) A concise statement explaining why the proposed decision is believed to be incorrect. This is a critical part of your protest. Take care to document all relevant facts. As much as possible, reference or cite the planning documents, environmental analysis documents, available planning records (i.e., meeting minutes or summaries, correspondence, etc.). A protest which merely expresses disagreement with the proposed decision, without any data will not provide us with the benefit of your information and insight. In this case, the Director's review will be based on the existing analysis and supporting data.

At the end of the 30-day protest period, the BLM may issue a Record of Decision, approving implementation of any portions of the proposed plan amendment not under protest. Approval will be withheld on any portion of the plan under protest until the protest has been resolved.

(Authority: Sec. 202, Pub. L. 94-579, 90 Stat. 2747 (43 U.S.C. 1712))
Dated: December 27, 2000.
Mat Millenbach,
State Director.

[FR Doc. 01-105 Filed 1-4-01; 8:45 am]

BILLING CODE 4310-DN-P